DEPARTMENT OF ENERGY

Federal Energy Regulatory Commission

Combined Notice of Filings #2

Take notice that the Commission received the following exempt wholesale generator filings:

Docket Numbers: EG12-51-000.

Applicants: Alta Wind VII, LLC.

Description: Notice of Self-Certification of Exempt Wholesale Generator Status of Alta Wind VII, LLC.

Filed Date: 3/28/12.

Accession Number: 20120328-5100.

Comments Due: 5 p.m. ET 4/18/12.

Docket Numbers: EG12-52-000.

Applicants: Alta Wind IX, LLC.

Description: Notice of Self-Certification of Exempt Wholesale Generator Status of Alta Wind IX, LLC.

Filed Date: 3/28/12.

Accession Number: 20120328-5101.

Comments Due: 5 p.m. ET 4/18/12.

Take notice that the Commission received the following electric rate filings:

Docket Numbers: ER11-4636-002.

Applicants: PacifiCorp, Avista Corporation, Puget Sound Energy, Inc., Portland General Electric Company, NorthWestern Corporation.

Description: Colstrip Project Transmission Agreement—Compliance Filing to be effective 3/28/2012.

Filed Date: 3/28/12.

Accession Number: 20120328-5060.

Comments Due: 5 p.m. ET 4/18/12.

Docket Numbers: ER12-715-002.

Applicants: Midwest Independent Transmission System Operator, Inc.

Description: Midwest Independent Transmission System Operator, Inc. submits tariff filing per 35: 03-28-12 Schedule 39 and Attachment GG Compliance to be effective 1/1/2012.

Filed Date: 3/28/12.

Accession Number: 20120328-5130.

Comments Due: 5 p.m. ET 4/18/12.

Docket Numbers: ER12-911-001.

Applicants: CPV Sentinel, LLC.

Description: CPV Sentinel, LLC submits tariff filing per 35: Category Status Tariff Revisions to be effective 3/29/2012.

Filed Date: 3/28/12.

Accession Number: 20120328-5137.

Comments Due: 5 p.m. ET 4/18/12.

Docket Numbers: ER12-1367-000.

Applicants: PacifiCorp.

Description: BPA NITSA (UIUC) Rev 6 to be effective 4/1/2012.

Filed Date: 3/28/12.

Accession Number: 20120328-5076.

Comments Due: 5 p.m. ET 4/18/12.

Docket Numbers: ER12-1368-000.

Applicants: PacifiCorp.

Description: PAC Energy NITSA Rev 14 to be effective 3/1/2012.

Filed Date: 3/28/12.

Accession Number: 20120328-5077.

Comments Due: 5 p.m. ET 4/18/12.

Docket Numbers: ER12-1369-000.

Applicants: Beaver Run Solar Farm LLC.

Description: Beaver Run Solar Farm LLC submits request for PJM Interconnection, L.L.C. Tariff Waiver and Reinstatement of February 27, 2012 Queue Position W3-106.

Filed Date: 3/27/12.

Accession Number: 20120327-5249.

Comments Due: 5 p.m. ET 4/17/12.

Docket Numbers: ER12-1370-000.

Applicants: Fowler Ridge Wind Farm LLC.

Description: Compliance Filing—Certificate of Concurrence for CFA to be effective N/A.

Filed Date: 3/28/12.

Accession Number: 20120328-5104.

Comments Due: 5 p.m. ET 4/18/12.

Docket Numbers: ER12-1371-000.

Applicants: Pacific Gas and Electric Company.

Description: Notices of Termination of Radback and Kansas South E&P Agreements to be effective 2/8/2012.

Filed Date: 3/28/12.

Accession Number: 20120328-5111.

Comments Due: 5 p.m. ET 4/18/12.

Docket Numbers: ER12-1372-000.

Applicants: PJM Interconnection, L.L.C.

Description: Revisions to the PJM Tariff & OA re DR Subzone/Product Dispatch to be effective 6/1/2012.

Filed Date: 3/28/12.

Accession Number: 20120328-5129.

Comments Due: 5 p.m. ET 4/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2012.
Nathaniel J. Davis, Sr.,
Deputy Secretary.

[FR Doc. 2012-8300 Filed 4-5-12; 8:45 am]

BILLING CODE 6717-01-P